ENVIRONMENTAL PROTECTION AGENCY

[EPA-HQ-ORD-2016-0010; FRL-10628-01-OMS]

Agency Information Collection Activities; Submission to the Office of Management and Budget for Review and Approval; Comment Request; Institutional Dual Use Research of Concern (iDURC) Policy Compliance (Renewal)

AGENCY: Environmental Protection Agency (EPA).

ACTION: Notice.

SUMMARY: The U.S. Environmental Protection Agency (EPA) has submitted an information collection request (ICR), Institutional Dual Use Research of Concern (iDURC) Policy Compliance (EPA ICR Number 2530.04, OMB Control Number 2080-0082) to the Office of Management and Budget (OMB) for review and approval in accordance with the Paperwork Reduction Act. This is a proposed extension of the ICR, which is currently approved through February 28, 2023. Public comments were previously requested via the Federal Register on May 31, 2022, during a 60-day comment period. This notice allows for an additional 30 days for public comments.

DATES: Comments may be submitted on or before March 1, 2023.

ADDRESSES: Submit your comments to EPA referencing Docket ID No. EPA-HQ-ORD-2016-0010, online using www.regulations.gov (our preferred method), by email to ord.docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Viktoriya Plotkin, Center for Environmental Solutions & Emergency Response, Office of Research and Development, 26 W Martin Luther King Dr., Cincinnati, Ohio 45268; telephone number: 202-510-3602; email address: plotkin.viktoriya@epa.gov.

SUPPLEMENTARY INFORMATION: This is a proposed extension of the ICR, which is currently approved through February 28, 2023. An agency may not conduct or sponsor and a person is not required to respond to a collection of information unless it displays a currently valid OMB control number.

Public comments were previously requested, via the Federal Register, on May 31, 2022 during a 60-day comment period (87 FR 32409). This notice allows for an additional 30 days for public comments. Supporting documents which explain in detail the information that EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: To comply with the U.S. Government Policy for Institutional Oversight of Life Sciences Dual Use Research of Concern (DURC Policy), EPA must ensure that the institutions subject to DURC Policy appropriately train their laboratory personnel and maintain records of their training. This training is specific to “dual use research of concern,” and should include information on how to properly identify DURC, appropriate methods for ensuring research that is determined to be DURC, and that it is conducted and communicated responsibly.

Form numbers: None.

Respondents/affected entities: Private sector and federal-owned/contractor-operated labs.

Respondent's obligation to respond: Mandatory (Per EPA Order 1000,19: Policy and Procedures for Managing Dual Use Research of Concern).

Estimated number of respondents: 40 (total).

Frequency of response: Only once and/or as necessary.

Total estimated burden: 20 hours (per year). Burden is defined at 5 CFR 1320.03(b).

Total estimated cost: $1,240 (per year), includes $0 annualized capital or operation & maintenance costs.

Changes in estimates: There is no change in the total estimated respondent burden compared with the ICR currently approved by OMB.

Courtney Kerwin,
Director, Regulatory Support Division.

[FR Doc. 2023-01783 Filed 1-27-23; 8:45 am]

BILLING CODE 6560-50-P